DEPARTMENT OF STATE

[Public Notice 9105]

Department of State FY 2014 Service Contract Inventory

AGENCY: Department of State.

ACTION: Notice of Release of the Department of State's FY 2014 Service Contract Inventory.

SUMMARY: Acting in compliance with Section 743 of Division C of the Consolidated Appropriations Act of 2010 (Pub. L. 111-117), the Department of State is publishing this notice to advise the public of the availability of the FY 2014 Service Contract Inventory. The FY 2014 Service Contract Inventory includes the Summary Report, Detailed Report, Supplement Report, and Planned Analysis. Additionally, the FY 2013 Meaningful Analysis is available.

The inventory was developed in accordance with guidance issued on November 5, 2010, December 19, 2011, and November 25, 2014 by the Office of Management and Budget (OMB), Office of Federal Procurement Policy (OFPP). The Department of State has posted its FY 2014 Service Contract Inventory and FY 2013 Meaningful Analysis at the following link: http://csm.state.gov/content.asp?content_id=135&menu_id=71.

DATES: The inventory is available on the Department's Web site as of April 9, 2015.

FOR FURTHER INFORMATION CONTACT: Marlon Henry, Management and Program Analyst, A/EX/CSM, 202-485-7210, HenryMD@state.gov.

Dated: April 15, 2015.
Marlon Henry,
Management and Program Analyst, A/EX/CSM., Department of State.

[FR Doc. 2015-09374 Filed 4-21-15; 8:45 am]

BILLING CODE 4710-24-P